DEPARTMENT OF EDUCATION

34 CFR Chapter III

[Docket ID ED-2024-OSERS-0131]

Proposed Priority and Requirements—Innovative Rehabilitation Training Program

AGENCY: Office of Special Education and Rehabilitative Services, Department of Education.

ACTION: Proposed priority and requirements.

SUMMARY: The Department of Education (Department) proposes a priority and requirements under the Innovative Rehabilitation Training program, Assistance Listing Number 84.263G. The Department may use the proposed priority and requirements for competitions in fiscal year (FY) 2025 and later years. We take this action to promote the development of innovative and improved methods of training on promising vocational rehabilitation (VR) counseling, engagement, and service delivery strategies and practices to State VR agency personnel or other public or non-profit rehabilitation professionals and paraprofessionals (including those enrolled in master's or bachelor's level rehabilitation programs) to provide quality VR and supported employment services that lead to quality employment outcomes for individuals with disabilities.

DATES: We must receive your comments on or before January 17, 2025.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email, or comments submitted after the comment period closes. To ensure the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing in their entirety on the Federal eRulemaking Portal at www.regulations.gov. Therefore, commenters should be careful to include in their comments only information that they wish to make publicly available.

FOR FURTHER INFORMATION CONTACT: Felipe Lulli, U.S. Department of Education, 400 Maryland Avenue SW, Room 4A10, Washington, DC 20202. Telephone: (202) 987-0128. Email: 84.263G@ed.gov.

A brief summary of the proposed rule is available at www.regulations.gov/docket/ED-2024-OSERS-0131.

If you are deaf, hard of hearing, or have a speech disability and wish to access telecommunications relay services, please dial 7-1-1.

SUPPLEMENTARY INFORMATION:

Invitation to Comment: We invite you to submit comments regarding the proposed priority and requirements. To ensure that your comments have maximum effect in developing the final priority and requirements, we urge you to clearly identify the specific section of the proposed priority and requirements that each comment addresses.

We are particularly interested in comments about whether the proposed priority and requirements would be challenging for new applicants to meet and, if so, how the proposed priority and requirements could be revised to address such potential challenges.

We invite you to assist us in complying with the specific requirements of Executive Orders 12866, 13563, and 14094 and their overall requirement of reducing regulatory burden that might result from this proposed priority and requirements. Please let us know of any further ways we could reduce potential costs or increase potential benefits while preserving the effective and efficient administration of the program.

During and after the comment period, you may inspect public comments about the proposed priority and requirements by accessing Regulations.gov. To inspect comments in person, please contact the person listed under FOR FURTHER INFORMATION CONTACT.

Assistance to Individuals with Disabilities in Reviewing the Rulemaking Record: On request we will provide an appropriate accommodation or auxiliary aid to an individual with a disability who needs assistance to review the comments or other documents in the public rulemaking record for this proposed priority and requirements. If you want to schedule an appointment for this type of accommodation or auxiliary aid, please contact the person listed under FOR FURTHER INFORMATION CONTACT.

Purpose of Program: The Innovative Rehabilitation Training program is designed to develop (a) new types of training programs for rehabilitation personnel and to demonstrate the effectiveness of these new types of training programs for rehabilitation personnel in providing rehabilitation services to individuals with disabilities; (b) new and improved methods of training rehabilitation personnel so that there may be a more effective delivery of rehabilitation services to individuals with disabilities by designated State rehabilitation agencies and designated State rehabilitation units or other public or non-profit rehabilitation service agencies or organizations; and (c) new innovative training programs for VR professionals and paraprofessionals to have a 21st-century understanding of the evolving labor force and the needs of individuals with disabilities so they can more effectively provide VR services to individuals with disabilities.

Program Authority: 29 U.S.C. 709(c) and 772.

Applicable Program Regulations: 34 CFR parts 385 and 387.

Proposed Priority

This document contains one proposed priority, Innovative Rehabilitation Training on Emerging VR Counseling, Engagement, and Service Delivery Strategies Leading to Quality Employment in 21st Century Careers for Individuals With Disabilities, and six topic areas under the priority.

Background: The Rehabilitation Services Administration (RSA), Office of Special Education and Rehabilitative Services proposes this priority and these requirements, based on allowable activities under 34 CFR parts 385 and 387, to enable VR agency professionals to help more VR participants benefit from the training, education, and employment opportunities offered by the Workforce Innovation and Opportunity Act (WIOA).

The proposed priority would support the purposes of WIOA, including to “improve the quality and labor market relevance of workforce investment, education, and economic development efforts to provide America's workers with the skills and credentials necessary to secure and advance in employment with family-sustaining wages and to provide America's employers with the skilled workers the employers need to succeed in a global economy.” (WIOA sec. 2(3)). It is also consistent with RSA Technical Assistance Circulars 23-03 Maximizing Services and the Use of Funds to Support Quality Employment Outcomes for Individuals with Disabilities through the VR and Supported Employment Programs and 24-01 Promoting Meaningful and Sustained Engagement of Individuals with Disabilities in the VR Program; the RSA Commissioner's Dear Colleague Letters DCL-24-02 on RSA priorities and DCL-25-01 on artificial intelligence; and priority 5(j) of the Secretary's Supplemental priorities (Final Priority and Definitions, Federal Register, December 10, 2021), reflecting the Department's commitment to effective VR services and use of funds, meaningful and sustained engagement with VR participants, collaboration with workforce development partners and community-based organizations including community rehabilitation programs (CRPs), advanced technology employment and training, and equity of access and opportunity for students with disabilities, disconnected youth and adults with disabilities. The proposed priority would promote quality employment for individuals with disabilities through innovative rehabilitation training to VR professionals on emerging VR counseling, engagement, and service delivery practices.

Applicants would be able to apply under one or more of the priority's six topic areas: (1) VR Counselor Participant Engagement Practices, (2) Career Assessment Addressing Emerging Career and Employment Trends, (3) Preparing VR Participants for High-Quality Employment in Science, Technology, Engineering, and Math (STEM) and Advanced Technology Careers, including Artificial Intelligence (AI), (4) Dual Customer Employer Engagement and Service Delivery Strategies, (5) Engagement and Service Delivery Strategies for Underserved Populations, and (6) Field Initiated.

Topic Area 1: VR Counselor Participant Engagement Practices

Participant engagement is described as “an active, multifaceted process that involves the empowerment of participants, participants' exercise of self-determined informed choice, and their collaboration with employment specialists in the working alliance” (Johnson et al., 2009). Research and program data suggests that participant engagement contributes to successful VR services and outcomes, particularly by increasing participant retention in VR programs. Southwick and Schultz (2019) and Dutta et al. (2017) found that active engagement increases participants' motivation, expectations, and confidence—characteristics essential for successful VR services and employment outcomes. State VR agencies are developing and implementing promising employee engagement strategies, including Motivational Interviewing and Rapid Engagement. Research suggests that Motivational Interviewing, for example, strengthens counselor-participant working relationships; improves understanding of participant circumstances, needs, and goals reflected in Individualized Plans for Employment (IPE); and encourages participants' sustained engagement in the resulting VR services (Torres, Frain, Tansey, 2019).

Early and sustained engagement may mitigate participants from exiting the VR process before receiving services under an individualized plan for employment (IPE). Nationally, the VR participant attrition rate was 29 percent in Program Year (PY) 2023, with individual States' attrition rates ranging between 14 percent and 60 percent during the same period.

Topic area 1 would strengthen counselors' engagement with participants throughout the VR continuum—from referral and application to the provision of services under a signed IPE—leading to quality competitive integrated employment outcomes.

Topic Area 2: Career Assessment Addressing Emerging Career and Employment Trends

WIOA emphasizes the need to ensure that competitive integrated employment outcomes optimally reflect VR participants' individual strengths, abilities, capabilities, interests, and informed choice. To this end, topic area 2 of this proposed priority would increase the effectiveness of VR professionals' vocational evaluation and comprehensive assessment practices in identifying and supporting VR participants' optimal career and employment goals, postsecondary education and training pathways, comprehensive support needs including rehabilitation technology, and potential options such as business ownership, self-employment, and telework.

Topic Area 3: Preparing VR Participants for High-Quality Employment in (STEM) and Advanced Technology Careers, Including AI

STEM is a promising career field for individuals with disabilities. Across all workers, employment in STEM occupations grew by 10.5 percent between May 2009 and May 2015, compared to 5.2 percent growth in non-STEM occupations (Fayer et al., 2017). Currently, STEM occupations requiring postsecondary-level scientific or technical knowledge account for 6.6 percent of the workforce in 2023 (U.S. Bureau of Labor Statistics, 2024). More broadly, considering all educational attainment levels and pathways, the National Science Foundation estimates that workers in jobs requiring significant STEM-related knowledge account for 23 percent of the workforce (National Science Board, National Science Foundation, 2024). STEM fields are projected to grow by an additional 10.4 percent through 2033, nearly three times the rate of non-STEM jobs (with positions in computing, engineering, and advanced manufacturing leading the way) (U.S. Bureau of Labor Statistics, 2024). STEM jobs pay substantially more than non-STEM jobs, with median annual wages of $95,420 for STEM occupations, compared to $40,120 for non-STEM occupations (Krutsch & Roderick, 2022).

VR agencies are working to prepare VR participants for the expanding career potential in emerging STEM-related fields, through pre-employment transition services and other initiatives. Of all VR participants who achieved competitive integrated employment after receiving VR services under an IPE during PYs 2017-2019, 20,420 (5.3 percent) were employed in STEM fields. Of these participants, 8,348 (40.9 percent) were youth aged 14-24 (Chun et al., 2023). Examples of STEM-related pre-employment transition services, for example, have grown significantly since the passage of WIOA in 2014, as evidenced by the VR portions of the WIOA State Plans. Topic area 3 would support VR professionals' efforts to maximize opportunities for VR participants to explore, consider, and pursue careers in STEM and other advanced technologies, including AI.

Topic Area 4: Dual Customer Employer Engagement and Service Delivery Strategies

WIOA has fostered the growth of dual customer business engagement initiatives that create career exploration, training, and employment opportunities for VR participants while meeting employers' need for skilled workers. State VR agencies have adopted a variety of business engagement models including Progressive Employment, Rapid Engagement, Customized Employment, Customized Training, Individualized Placements and Supports as well as apprenticeships in partnership with businesses, State and local workforce development partners, and community-based organizations including CRPs. Topic area 4 would support such business engagement trends by improving the capacity of VR counselors and specialists to provide optimal dual customer services and training outlined in 34 CFR 361.32.

Topic Area 5: Engagement and Service Delivery Strategies for Underserved Populations

Publicly available, individual-level RSA-911 VR participant data indicate that disparities exist in VR eligibility determination, service provision, and employment outcomes for Black, American Indian/Alaska Native, and Hispanic individuals with disabilities, and other traditionally underserved or underrepresented populations (Shaewitz, D.M. & Yin, M., 2021). Innovative practices can also address challenges in accessing VR services and outcomes faced by youth in foster care; formerly incarcerated adults; veterans; residents of rural, remote, or impoverished communities; and individuals with intellectual, developmental, emotional, sensory, substance abuse, traumatic head injury-related disabilities, among others. Topic area 5 of this proposed priority would promote access to VR services, resources, and opportunities for these or other underserved or underrepresented groups. Applicants may identify an underserved or underrepresented group, or combination of populations, and develop an innovative training program enabling VR professionals to address their challenges through research-based promising practices.

Topic Area 6: Field Initiated

Finally, to maximize the breadth and impact of this proposed priority, topic area 6 would offer applicants the flexibility to propose improved methods of training on promising VR counseling, engagement, and service delivery strategies and practices on topic areas that are either not specified in this priority or a combination of two or more topic areas described in this priority, consistent with the priority's purpose.

Applicants may draw from the activities and findings of RSA's WIOA-related discretionary grant investments, and other Federal, State, and non-government activities, to develop innovative training proposals under this priority. Beginning in 2015, RSA's VR Technical Assistance Centers on Workforce Innovation (WINTAC), Youth (Y-TAC), and Targeted Communities (VRTAC-TC) provided intensive, targeted, and universal technical assistance and training to State VR agencies in support of WIOA purposes and priorities, including youth transition, pre-employment transition services, employer engagement, apprenticeships, labor market analysis, credentialing, and measurable skill gains leading to quality competitive integrated employment outcomes. Other WIOA-relevant RSA investments during this period included the Career Pathways for Individuals with Disabilities demonstration project and the National Technical Assistance Center on Transition in partnership with the Department's Office of Special Education Programs. These initiatives involved evidence-based or emerging practices such as Index Plus, Community-Based Participatory Research, Motivational Interviewing, Trauma-Informed Care, Integrated Placement and Supports, and Integrated Resource Teams. State VR agencies engaged in these initiatives reported improvements in VR service delivery and outcomes. WINTAC, for example, helped the State VR agency of Alaska increase pre-employment transition services by 384 percent in three years. VRTAC-TC contributed to significant increases in VR applications, eligibility determinations, IPE development, service delivery, and competitive integrated employment outcomes for 21 priority underserved population groups from 24 socioeconomically challenged communities in 12 States, relative to the same population groups elsewhere in their respective States.

RSA investments in support of WIOA continued with the Innovative Rehabilitation Training grants awarded in 2019 and 2020 as well as the VR Technical Assistance Center for Quality Employment and the VR Technical Assistance Center for Quality Management, awarded in 2020. RSA further invested in innovative approaches related to career advancement, transitioning from subminimum wage employment to competitive integrated employment, State and local partnerships to improve youth transition outcomes, and transformational approaches to create 21st Century workforce opportunities for adults and youth with disabilities, through Disability Innovation Fund awards in 2021, 2022, 2023, and 2024.

Currently, the Innovative Rehabilitation Training program (awarded in 2019 and 2020) is providing training to VR professionals and students on VR counseling, career assessment, forensic evaluation, pre-employment transition services, business engagement, business ownership, self-employment, and telecommuting, and specialized VR services for individuals with intellectual disabilities and autism spectrum disorders. The grants reflect a wide range of curricula (full academic courses, certificate program, standalone modules); products (research studies, published articles, videos); information delivery methods (online or on-site, synchronous or asynchronous, on-demand or scheduled); instructional technologies (including advanced technologies such as Virtual Reality simulations and role playing); and communities of practice (involving VR agency leadership, cross-disciplinary VR specialists, stakeholders, and partners). Grantees have established strong partnerships with State VR agencies, pertinent national associations, and IHEs to develop, evaluate, disseminate, and replicate the curricula and recruit training participants.

This proposed priority represents a natural progression from previous RSA investments and the existing Innovative Rehabilitation Training program. The priority would promote key elements from WIOA including dual customer business engagement services, with a focus on contemporary emerging, high-paying careers in STEM, green industries, critical infrastructure, and advanced technology fields, including AI.

Proposed Priority: Innovative Rehabilitation Training on Emerging VR Counseling, Engagement, and Service Delivery Strategies Leading to Quality Employment in 21st Century Careers for Individuals With Disabilities. Projects that propose a new innovative rehabilitation training program for rehabilitation personnel on emerging VR counseling, engagement, and service delivery best practices or strategies in any of six topic areas that provides a 21st century understanding of the evolving labor force and the needs of individuals with disabilities, resulting in more effective delivery of rehabilitation services to individuals with disabilities. The six topic areas under this priority are:

(1) VR Counselor Participant Engagement Practices. Proposed projects under this topic area must focus on improving VR counselors' knowledge and skills to effectively engage with VR participants through the VR continuum from referral and application to the provision of VR services under a signed IPE, and through the achievement of an employment outcome. This may include, for example, VR counseling relationship-building skills training; early and ongoing engagement strategies, including pre-employment transition services; benefits counseling, financial planning, and VR participant self-advocacy skills training; and the development of internal and external partnerships with cross-disciplinary VR agency specialists, employers, workforce development partners, Client Assistance Programs, and community-based organizations, including CRPs and Centers for Independent Living (CILs).

(2) Career Assessment Addressing Emerging Career and Employment Trends. Proposed projects under this topic area must focus on identifying and supporting VR participants' informed choice and optimal career and employment goals, postsecondary education and training, credentialing and measurable skills attainment pathways, and comprehensive support needs including assistive technology, consistent with participants' unique strengths, abilities, capabilities, and interests. This may include, for example, providing vocational evaluation and comprehensive assessments; facilitating AI-enabled individual supports and accommodations, conducting local and national labor market analyses; tracking emerging 21st century career trends in STEM, advanced technologies, and green industries such as sustainable manufacturing and renewable energy; exploring work options such as business ownership, self-employment, and telework; and identifying the most appropriate training and employment options including apprenticeships, customized employment, and career pathways.

(3) Preparing VR Participants for High-quality Employment in STEM and Advanced Technology Careers, including AI. Proposed projects under this topic area must focus on maximizing the number of VR participants provided the opportunity to explore, consider, and pursue high quality careers in STEM and advanced technology careers, including AI, and other emerging high-quality fields. This may include, for example, early and meaningful exposure to such careers through quality pre-employment transition services; peer mentorship by persons with disabilities in such careers; identification of VR participants whose unique strengths, abilities, interests, and informed choice align with such careers; and partnerships with State and local educational agencies, Institutions of Higher Education (IHE), career and technical education programs, disability organizations, CRPs, and others to provide the appropriate training, education, and support services.

(4) Dual Customer Employer Engagement and Service Delivery Strategies. Proposed projects under this topic area must focus on helping VR agency personnel to engage effectively with employers through the provision of the services and training outlined in 34 CFR 361.32, meeting employers' needs for skilled workers while creating quality employment and training opportunities for VR participants. This may include, for example, strategies for identifying promising dual customer employer engagement opportunities; providing training and technical assistance to employers regarding the employment of individuals with disabilities, including disability awareness, and the requirements of the Americans with Disabilities Act and other employment-related laws; supporting VR agency capacity-building to provide quality dual customer services and training to employers; conducting outreach to employers, community-based organizations, and business associations highlighting VR agency capabilities and documented successes; and delivering dual customer service and training through the coordinated efforts of cross-disciplinary VR personnel, employers, and workforce development system partners.

(5) Engagement and Service Delivery Strategies for Underserved Populations. Proposed projects under this topic area must focus on promoting access to VR services, resources, and opportunities for current or prospective VR participants from the underserved population(s) selected by the applicant. This may include, for example, identifying the needs, challenges, opportunities, cultural sensitivities, or linguistic requirements of the selected population; establishing partnerships with local or national associations, community-based organizations including CRPs and CILs, and advocates representing the selected population; conducting outreach strategies to engage the selected populations throughout the VR process; and developing VR policies, procedures, practices, and VR service delivery approaches that address the populations' unique needs, challenges, cultural sensitivities, or linguistic requirements. Applicants must identify the selected underserved population(s), which may include disability category, race, ethnicity, socioeconomic status, or other factors.

(6) Field-Initiated. Proposed projects under this topic area must address an area not specified in this priority, consistent with the stated purpose of the priority, or a combination of two or more topic areas specified in this priority.

Note: The numbering of the topic areas does not reflect an established hierarchy or preference among the topic areas.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Project Requirements

The Department proposes the following project requirements for applicants under this priority. Based on ongoing administration of the current program, RSA expects that these requirements will promote innovation, continuous improvement, and enduring impacts on VR professionals and participants beyond the life of the grant. We may apply one or more of these requirements in any year in which this program is in effect.

Proposed Project Requirements:

(a) Establish the empirical basis of the proposed project objectives and activities. The applicant must identify the particular focus it intends to address within the selected topic area; the key knowledge and practice determinants of VR service effectiveness and employment outcome quality; and the empirical sources and rationale for the identified knowledge and practices, including available research, literature reviews, and relevant projects conducted by RSA or other Federal or non-government entities. Applicants responding to topic area 5, Underserved Populations, must also provide supporting data regarding their selected population group(s) and identified barriers to VR services and employment outcomes.

(b) Establish a process, including clear and actionable steps as well as specific timelines, to continue assessing innovative practices and training methods for possible incorporation, especially during the initial year of the grant, including stakeholder surveys to identify promising practices that the State VR agencies may already be implementing.

(c) Design an innovative, multifaceted VR counselor training plan to convey the identified knowledge and practices. The training plan must specify the intended participants; proposed curricula, activities, and products, including training modules, communities of practice, research studies, published articles, or videos; instructional and communication technologies, including AI-based methods and tools, if applicable; and knowledge translation methods adapted to diverse learning styles or ethnic and linguistic backgrounds. The training plan must address a broad range of VR professionals—decision-makers, counselors, cross-disciplinary specialists—and pertinent partners and stakeholders, as appropriate.

(d) Establish an advisory panel of one or more VR agencies and other pertinent stakeholders to help develop, implement, and evaluate the project. The applicant must describe the panel membership, structure, and responsibilities. Panel member responsibilities may include identifying key knowledge requirements, best practices, and innovative approaches for the training curricula and methods; coordinating with other interested parties to disseminate curricula, recruit training participants, engaging additional VR agencies and stakeholders; and participating in the project's continuous feedback, evaluation, and improvement processes.

(e) Prioritize key stakeholder engagement, partnerships, and information-sharing in the innovative training activities, including with IHEs and relevant professional associations. The applicant must identify the stakeholders to be involved within each of the project's particular focus; the purpose and expected benefits of stakeholder involvement; anticipated communities of practices to facilitate stakeholder involvement; and the innovative or advanced convening or communication technologies to be used, as applicable.

(f) Establish continuous feedback, evaluation, and improvement processes, including action steps and clear timelines, to ensure that the training curricula and resources are responsive to the needs of the current and aspiring VR professionals and stakeholders; meet the project scope and objectives; and reflect evolving research, promising practices, and innovative training methods during the life of the grant.

(g) Disseminate, replicate, and sustain the innovative training curricula and resources. The applicant must post completed training curricula and related resources on National Clearinghouse of Rehabilitation Training Materials (NCRTM) and other appropriate venues on an ongoing basis; facilitate replication of training curricula by interested VR agencies, IHEs, or other interested parties; sustain and maintain the training curriculum beyond the life of the grant; and present innovative training curricula, resources, outcomes, and lessons learned in at least one national forum during the final year of the grant.

References

Chun, J., Zhou, K., Rumrill, S., & Tittelbach, T. (2023). STEM career pathways for transition-age youth with disabilities. Rehabilitation Research, Policy, and Education, v37 n1 p36-48

Dutta, A., Chan, F., Kundu, M.M., Kaya, C., Brooks, J., Sánchez, J., & Tansey, T.N. (2017). Assessing vocational rehabilitation engagement of people with disabilities: A factor-analytic approach. Rehabilitation Counseling Bulletin, 60(3), 145-154. https://doi.org/10.1177/0034355215626698

Torres, A., Frain, M., Tansey, T. (2019). The Impact of Motivational Interviewing Training on Rehabilitation Counselors: Assessing Working Alliance and Client Engagement. A Randomized Controlled Trial. https://psycnet.apa.org/doiLanding?doi=10.1037%2Frep0000267

Fayer, S., Lacey, A., & Watson, A. (2017, January). Science, technology, engineering, and mathematics (STEM) occupations: Past, present, and future. U.S. Bureau of Labor Statistics. https://www.bls.gov/spotlight/2017/science-technology-engineering-and-mathematics-stem-occupations-past-present-and-future/home.htm

Krutsch, E. & Roderick, V. (2022). U.S. Department of Labor Blog: STEM Day: Explore Growing Careers, November, Source: U.S. Bureau of Labor Statistics Employment Projections. https://blog.dol.gov/2022/11/04/stem-day-explore-growing-careers

U.S. Bureau of Labor Statistics. (2024). Employment in STEM occupations. Projections 2023 to 2033. STEM Occupations Projection link (bls.gov)

National Science Board, National Science Foundation. (2024). Science and engineering indicators 2024: The state of U.S. science and engineering. NSB-2024-3. https://ncses.nsf.gov/pubs/nsb20243

Johnson, R.L., Floyd, M., Pilling, D., Boyce, M.J., Grove, B., Secker, J., Schneider, J., & Slade, J. (2009). Service users' perceptions of the effective ingredients in supported employment. Journal of Mental Health, 18(2), 121-128. https://doi.org/10.1080/09638230701879151

Southwick, J., & Schultz, J. (2019). Participant engagement in public vocational rehabilitation programs: An analysis of counselor ratings. The Journal of Rehabilitation, 85(2), 13-22

Shaewitz, D.M. & Yin, M. (2021). Serving all consumers: Identifying racial disparities in the vocational rehabilitation system. https://iel.org/wp-content/uploads/2021/12/Serving-All-Consumers_Identifying-Racial-Disparities-in-the-Vocational-Rehabilitation_FINAL_508c.pdf.

Final Priority and Requirements

We will announce the final priorities and requirements in a document in the Federal Register. We will determine the final priorities and requirements after considering public comments on the proposed priority and requirements and other information available to the Department. This document does not preclude us from proposing additional eligibility criteria, priorities, requirements, definitions, and selection criteria subject to meeting applicable rulemaking requirements.

Note: This document does not solicit applications. In any year in which we choose to use one or more of these proposed priorities and these requirements, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlement grants, user fees, or loan programs or the rights and obligations of recipients thereof; or

(4) Raise novel legal or policy issues for which centralized review would meaningfully further the President's priorities, or the principles set forth in this Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” OIRA has emphasized that these techniques may include “identifying changing future compliance costs that might result from technological innovation or anticipated behavioral changes.”

We are issuing this proposed priority and these proposed requirements only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with these Executive Orders, the Department has assessed the potential costs and benefits, both quantitative and qualitative, of this regulatory action. The potential costs are those resulting from statutory requirements and those we have determined as necessary for administering the Department's programs and activities.

Clarity of the Regulations

Executive Order 12866 and the Presidential memorandum “Plain Language in Government Writing” require each agency to write regulations that are easy to understand.

The Secretary invites comments on how to make this proposed priority and requirements easier to understand, including answers to questions such as the following:

• Are the requirements in the proposed priority and requirements clearly stated?

• Do the proposed priority and requirements contain technical terms or other wording that interferes with their clarity?

• Does the format of the proposed priority and requirements (grouping and order of sections, use of headings, paragraphing, etc.) aid or reduce their clarity?

• Would the proposed priority and requirements be easier to understand if we divided them into more (but shorter) sections?

• Could the description of the proposed priority and requirements in the SUPPLEMENTARY INFORMATION section of this preamble be more helpful in making the proposed priority and requirements easier to understand? If so, how?

• What else could we do to make the proposed priority and requirements easier to understand?

To send any comments about how the Department could make this proposed priority and requirements easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification: The Secretary certifies that this proposed priority and these proposed requirements would not have a significant economic impact on a substantial number of small entities. Participation in the Innovative Rehabilitation Training program is voluntary. In addition, the only eligible entities for this program are State agencies or their equivalents under State law, Public, Private and Nonprofit Entities, including Indian Tribes and Institutions of Higher Education, which do not meet the definition of a small entity. We expect that in determining whether to apply for Innovative Rehabilitation Training program funds, an eligible entity would evaluate the requirements of preparing an application and any associated costs and weigh them against the benefits likely to be achieved by receiving a program grant. An eligible entity probably would apply only if it determines that the likely benefits exceed the costs of preparing an application.

We believe that the proposed priority and requirements would not impose any additional burden on a small entity applying for a grant than the entity would face in the absence of the proposed action. That is, the length of the applications those entities would submit in the absence of the proposed regulatory action and the time needed to prepare an application would likely be the same.

This proposed regulatory action would not have a significant economic impact on a small entity once it receives a grant because it would be able to meet the costs of compliance using the funds provided under this program. We invite comments from eligible small entities as to whether they believe this proposed regulatory action would have a significant economic impact on them and, if so, request evidence to support that belief.

Paperwork Reduction Act of 1995: The proposed priority and requirements contain information collection requirements that are approved by OMB under OMB control number 1894-0006.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site. You may also access documents of the Department published in the Federal Register by using the article search feature at www.federalregister.gov. Specifically, through the advanced search feature at this site, you can limit your search to documents published by the Department.

Glenna Wright-Gallo,
Assistant Secretary for Special Education and Rehabilitative Services.

[FR Doc. 2024-29996 Filed 12-17-24; 8:45 am]

BILLING CODE 4000-01-P